ENVIRONMENTAL PROTECTION AGENCY

[FRL-7101-3]

Agency Information Collection Activities: Proposed Collection; Comment Request

AGENCY: Environmental Protection Agency (EPA).

ACTION: Notice.

SUMMARY: In compliance with the Paperwork Reduction Act (44 U.S.C. 3501 et seq.), this document announces the submission of three proposed Information Collection Requests (ICR) to the Office of Management and Budget (OMB) entitled Superfund Orphan Share Compensation Reform Survey ICR, EPA ICR 2035.01; Superfund De Minimis Settlement Reform Survey ICR, EPA ICR 2036.01; and PRP Oversight Reform Survey ICR, EPA ICR 2037.1.

Before submitting the ICRs to OMB for review and approval, EPA is soliciting comments on specific aspects of the information collections as described at the beginning of Supplementary Information.

DATES: Comments must be submitted on or before January 8, 2002.

ADDRESSES: United States Environmental Protection Agency, Office of Site Remediation Enforcement (MC 2273A), 1200 Pennsylvania Avenue, NW, Washington, DC 20460. Comments can also be submitted electronically via e-mail to SFReformsICR@epa.gov. A copy of an ICR and the associated survey may be obtained on EPA's web site at http://es.epa.gov/oeca/osre/superfund.html, or a hard copy of an ICR and the associated survey may be obtained without charge by contacting Kim Simms at 202-564-2420.

FOR FURTHER INFORMATION CONTACT: For specific information on the individual ICRs, please contact Bruce Pumphrey at (202) 564-6076, (202) 564-0074 (Fax), e-mail: pumphrey.bruce@epa.gov.

SUPPLEMENTARY INFORMATION:

For All ICRs

An Agency may not conduct or sponsor, and a person is not required to respond to, a collection of information unless it displays a currently valid OMB control number. The OMB control numbers for EPA's regulations are displayed in 40 CFR part 9.

The EPA would like to solicit comments to:

(i) Evaluate whether the proposed collection of information is necessary for the proper performance of the functions of the Agency, including whether the information will have practical utility;

(ii) Evaluate the accuracy of the Agency's estimate of the burden of the proposed collection of information;

(iii) Enhance the quality, utility, and clarity of the information to be collected; and

(iv) Minimize the burden of the collection of information on those who are to respond, including through the use of automated collection techniques or other forms of information technology, e.g., permitting electronic submission of responses.

Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

A. List of ICRs Planned To Be Submitted

In compliance with the Paperwork Reduction Act (44 U.S.C. 3501 et seq.), this notice announces that EPA is planning to submit the following three proposed Information Collection Requests (ICR) to the Office of Management and Budget (OMB):

(1) Superfund Orphan Share Compensation Reform Survey ICR, EPA ICR 2035.01.

(2) Superfund De Minimis Settlement Reform Survey ICR, EPA ICR 2036.01.

(3) PRP Oversight Reform Survey ICR, EPA ICR 2037.1

B. Contact Individual for ICRs

Bruce Pumphrey, (202) 564-6076, (202) 564-0074 (Fax), e-mail: pumphrey.bruce@epa.gov.

C. Individual ICRs

(1) Superfund Orphan Share Compensation Reform Survey ICR, EPA ICR 2035.01.

Affected Entities: Entities potentially affected by this action are persons who have participated in the orphan share compensation reform.

Abstract: This voluntary one-time information collection is for a survey of orphan share compensation reform participants who were offered orphan share compensation as part of the reform. The survey will be administered to a non-random sample consisting of one-third (33 percent) of the settlors and one-third (33 percent) of the non-settlors for each offer extended by the Agency, subject to a minimum of three offerees in each category. The information will not be generalized to the population of relevant offerees. The information collected from this survey will be used in a broader evaluation of the orphan share compensation reform's overall effectiveness. The information will also be used to identify any revisions to the reform necessary to achieve the goal of promoting settlements with responsible parties to perform or pay for response actions. No confidential information is being collected under this ICR.

Burden Statement: This ICR has an estimated respondent burden of 825 hours and $25,403. EPA estimates that 300 respondents will participate, with an average respondent burden of 2.75 hours and $84.68. Responses will be one-time and voluntary, and no capital or start-up expenses will be required.

(2) Superfund De Minimis Settlement Reform Survey ICR, EPA ICR 2036.01.

Affected Entities: Entities potentially affected by this action are persons who have participated in the de minimis settlement reform.

Abstract: This voluntary one-time information collection is for a survey of de minimis settlement reform participants who were offered a de minimis settlement as part of the reform. The survey will be administered to a non-random sample consisting of one-fifth (20 percent) of the settlors and one-fifth (20 percent) of the non-settlors for each offer extended by the Agency, subject to a minimum of three offerees in each category. The information will not be generalized to the population of relevant offerees. The information collected from this survey will be used in a broader evaluation of the de minimis settlement reform's overall effectiveness in achieving the goals of the reform (promoting early settlement with small waste contributors and minimizing their legal transaction costs) and to identify any changes necessary to achieve these goals. No confidential information is being collected under this ICR.

Burden Statement: This ICR has an estimated respondent burden of 1041 hours and $32,743. EPA estimates that 347 respondents will participate, with an average respondent burden of 3 hours and $94.36. Responses will be one-time and voluntary, and no capital or start-up expenses will be required.

(3) PRP Oversight Survey ICR, EPA ICR 2037.1

Affected Entities: Entities potentially affected by this action are parties that did work during FY00 under settlement agreements with EPA that provide for payment of oversight costs.

Abstract: This voluntary one-time information collection is for a survey of parties that did work during FY00 under settlement agreements with EPA that provide for payment of oversight costs. The survey will be administered to all of the approximately 230 potential respondents that are willing to voluntarily participate. The information collected from this survey will be used in a broader evaluation of the PRP Oversight Reform's overall effectiveness in promoting effective and efficient PRP oversight and identifying best practices which could be more widely applied to meet the reform's goals and objectives. No confidential information is being collected under this ICR.

Burden Statement: This ICR has an estimated respondent burden of 210 respondents at $21,848, with an average respondent burden of 3 hours and $104.04. Responses will be one-time and voluntary, and no capital or start-up expenses will be required.

Dated: October 19, 2001.
Barry Breen,
Director, Office of Site Remediation Enforcement.

[FR Doc. 01-28193 Filed 11-8-01; 8:45 am]

BILLING CODE 6560-50-P